DEPARTMENT OF HEALTH AND HUMAN SERVICES

National Institutes of Health

Center for Scientific Review; Amended Notice of Meeting

Notice is hereby given of a change in the meeting of the Neural Oxidative Metabolism and Death Study Section, October 24, 2013, 08:00 a.m. to October 25, 2013, 12:00 p.m., Hotel Monaco, 2 North Charles Street, Baltimore, MD, 21201 which was published in the Federal Register on October 1, 2013, 78 FR 190 Pgs. 60297-60299.

The meeting will be held at the St. Gregory Hotel & Suites, 2033 M Street NW., Washington, DC 20036. The meeting will start on December 4, 2013 at 6:00 p.m. and end December 5, 2013 at 8:00 p.m. The meeting is closed to the public.

Dated: October 29, 2013.
Melanie J. Gray,
Program Analyst, Office of Federal Advisory Committee Policy.

[FR Doc. 2013-26180 Filed 11-1-13; 8:45 am]

BILLING CODE 4140-01-P